DEPARTMENT OF ENERGY

Agency Information Collection Extension

AGENCY: U.S. Department of Energy.

ACTION: Notice of request for comments.

SUMMARY: The Department of Energy (DOE), pursuant to the Paperwork Reduction Act of 1995, intends to amend and extend for three years an information collection request with the Office of Management and Budget (OMB). The collection of information relates to DOE Loan Guarantees for Energy Projects under OMB Control No. 1910-5134.

DATES: Comments regarding this information collection revision and extension must be received on or before April 20, 2026. If you anticipate any difficulty in submitting comments within that period, contact the person listed in the FOR FURTHER INFORMATION CONTACT section as soon as possible.

ADDRESSES: Written comments may be sent to Uchechukwu “Emeka” Eze, 1000 Independence Avenue SW, Ste. 4B-122, Washington, DC 20585-0121, telephone: (202) 586-1092, or by email at LPO.IFR@hq.doe.gov.

FOR FURTHER INFORMATION CONTACT: Requests for additional information or copies of the information collection instrument and instructions should be directed to Uchechukwu “Emeka” Eze, telephone: (202) 586-1092, or by email at: LPO.IFR@hq.doe.gov.

SUPPLEMENTARY INFORMATION:

Comments are invited on: (a) Whether the collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5134;

(2) Information Collection Request Titled: DOE Loan Guarantees for Energy Projects;

(3) Type of Review: Revision and extension of a currently approved collection;

(4) Purpose: DOE's Loan Guarantees for Energy Projects program is implemented pursuant to Title XVII of the Energy Policy Act of 2005, as amended (Title 17). 42 U.S.C. 16511 et seq. Under the Title 17 Energy Financing Program the Department of Energy may make guarantees for projects meeting the eligibility requirements set forth at 42 U.S.C. 16513 (also referred to as section 1703 of Title XVII, or the Section 1703 Program) or 42 U.S.C. 16517 (also referred to as section 1706 of Title XVII, or the Section 1706 Program; better known as the Energy Dominance Financing Program). DOE set forth regulations at 10 CFR part 609 to establish application requirements and otherwise implement the Title 17 Program.

This information collection request covers the information necessary to evaluate those applications. The information collected will be used to analyze whether an applicant and its project is eligible under the Title 17 Program. The collection of this information is critical to ensure that the government has sufficient information to determine whether applicants meet the eligibility requirements to qualify under the Title 17 Program and to provide DOE with sufficient information to evaluate an applicant's project using the criteria specified in 10 CFR part 609;

(5) Annual Estimated Number of Respondents: 100 Respondents;

(6) Annual Estimated Number of Total Responses: 100 Responses;

(7) Annual Estimated Number of Burden Hours: 13,250 Burden Hours;

(8) Annual Estimated Reporting and Recordkeeping Cost Burden: $3,371,100 (or $33,711 per Respondent).

Statutory Authority: Title XVII of the Energy Policy Act of 2005, as amended (and codified at 42 U.S.C. 16511 et seq).

Signing Authority

This document of the Department of Energy was signed on February 06, 2026, by Gregory Beard, Director, Office of Energy Dominance Financing, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on February 13, 2026.
Jennifer Hartzell,
Alternate Federal Register Liaison Officer, U.S. Department of Energy.

[FR Doc. 2026-03184 Filed 2-17-26; 8:45 am]

BILLING CODE 6450-01-P